DEPARTMENT OF COMMERCE

International Trade Administration

Overseas Trade Missions

AGENCY: International Trade Administration, Department of Commerce.

ACTION: Notice.

SUMMARY: The Department of Commerce invites U.S. companies to participate in the below listed overseas trade missions. For a more complete description of each trade mission, obtain a copy of the mission statement from the Project Officer indicated for each mission below. Recruitment and selection of private sector participants for these missions will be conducted according to the Statement of Policy Governing Department of Commerce Overseas Trade Missions dated March 3, 1997.

CRECEX Trade Mission to San Jose, Costa Rica

September 3-17, 2001

Recruitment closes on July 31, 2001

For further information contact: Mr. Dennis Millard, U.S. Department of Commerce, Telephone 501-324-5797; or e-Mail: Dennis.Millard@mail.doc.gov

Corporate Executive Office Mission at Expopharm ‘01

Munich, Germany

September 13-16, 2001

Recruitment closes on August 15, 2001

For further information contact: Ms. Sabine Winkels, U.S. Consulate, Dusseldorf, Germany, Telephone 011-49-211-737-767-40; or e-Mail: Sabine.Winkels@mail.doc.gov

or

Mr. David Fiscus, U.S. Department of Commerce, Telephone 202-482-1599; or e-Mail: David.Fiscus@mail.doc.gov

Corporate Executive Office Mission at the K'Show ‘01

Dusseldorf, Germany

October 25-November 1, 2001

Recruitment closes on August 30, 2001

For further information contact: Ms. Kirsten Hentschel, U.S. Consulate, Dusseldorf, Germany, Telephone 011-49-211-737-767-30; or e-Mail: Kirsten.Hentschel@mail.doc.gov

or

Mr. David Fiscus, U.S. Department of Commerce, Telephone 202-482-1599; or e-Mail: David.Fiscus@mail.doc.gov

Oil and Gas Equipment and Services Trade Mission to Kazakhstan, with optional stop in Azerbaijan Almaty, Astana, Atyrau and Baku

October 1-9, 2001

Recruitment Closes on August 31, 2001

For further information contact: Mr. Michael Beeman, U.S. Department of Commerce, Telephone 202-482-3492; or e-Mail: Michael_Beeman@ita.doc.gov

Internet and Telecommunications Trade Mission to Germany

Munich, Frankfurt and Berlin or Hamburg

November 4-9, 2001

Recruitment closes on September 7, 2001

For further information contact: Ms. Danielle_Kriz, U.S. Department of Commerce, Telephone 202-482-0568; or e-Mail: Danielle_Kriz@ita.doc.gov

Franchising Trade Mission to China, Hong Kong (SAR) and Taiwan

Beijing, Hong Kong, Shanghai and Taipei

November 4-9, 2001

Recruitment closes on September 30, 2001

For further information contact: Mr. Raj_Dwivedy, U.S. Department of Commerce, Telephone 202-482-4581; or e-Mail: Raj_Dwivedy@ita.doc.gov

Corporate Executive Office Mission at Medica

Dusseldorf, Germany

November 21-24, 2001

Recruitment closes on October 5, 2001

For further information contact: Ms. Sabine Winkels, U.S. Consulate, Dusseldorf, Germany. Telephone 011-49-211-737-767-40; or e-Mail: Sabine.Winkels@mail.doc.gov

or

Mr. David Fiscus, U.S. Department of Commerce, Telephone 202-482-1599; or e-Mail: David.Fiscus@mail.doc.gov

For further information contact Mr. Thomas Nisbet, U.S. Department of Commerce, Telephone 202-482-5657, or e-Mail Tom_Nisbet@ita.doc.gov

Dated: July 17, 2001.
Thomas H. Nisbet,
Director, Promotion Planning and Support Division, Office of Export Promotion Coordination.

[FR Doc. 01-18292 Filed 7-20-01; 8:45 am]

BILLING CODE 3510-DR-P